DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and, (d) ways to minimize the burden of the collection of information on respondents, including through the use of automated collection techniques or other forms of information technology.

Proposed Project: 2019 National Survey on Drug Use and Health (OMB No. 0930-0110)—Extension

The National Survey on Drug Use and Health (NSDUH) is a survey of the U.S. civilian, non-institutionalized population aged 12 years old or older. The data are used to determine the prevalence of use of tobacco products, alcohol, illicit substances, and illicit use of prescription drugs. The results are used by SAMHSA, the Office of National Drug Control Policy (ONDCP), federal government agencies, and other organizations and researchers to establish policy, to direct program activities, and to better allocate resources.

This is an extension to the 2019 National Survey on Drug Use and Health (NSDUH). There are no substantive changes to the questionnaire or changes in burden. The 2019 NSDUH will continue to include questions on medication-assisted treatment (MAT) and kratom.

As with all NSDUH surveys conducted since 1999, including those prior to 2002 when the NSDUH was referred to as the National Household Survey on Drug Abuse, the sample size of the survey for 2019 will be sufficient to permit prevalence estimates for each of the 50 states and the District of Columbia. The total annual burden estimate is shown below in Table 1.

Table 1—Annualized Estimated Burden for 2019 NSDUH
Instrument | Number of respondents | Responses per respondent | Total number of responses | Hours per response | Total burden hours
Household Screening | 137,231 | 1 | 137,231 | 0.083 | 11,390
Interview | 67,507 | 1 | 67,507 | 1.000 | 67,507
Screening Verification | 4,116 | 1 | 4,116 | 0.067 | 276
Interview Verification | 10,126 | 1 | 10,126 | 0.067 | 678
Total | 137,231 |  | 218,980 |  | 79,851

Send comments to Summer King, SAMHSA Reports Clearance Officer, Room 15E57B, 5600 Fishers Lane, Rockville, MD 20857 or email a copy to summer.king@samhsa.hhs.gov.

Written comments should be received by January 18, 2019.

Summer King,
Statistician.

[FR Doc. 2018-25142 Filed 11-16-18; 8:45 am]

BILLING CODE 4162-20-P